SURFACE TRANSPORTATION BOARD

[Docket No. AB 55 (Sub-No. 765X)]

CSX Transportation, Inc.—Discontinuance of Service Exemption—in Dickenson and Buchanan Counties, VA

CSX Transportation, Inc. (CSXT), filed a verified notice of exemption under 49 CFR part 1152, subpart F—Exempt Abandonments and Discontinuances of Service to discontinue service over an approximately 5.6-mile rail line on its Southern Region, Florence Division and Kingsport Subdivision, between milepost ZH 0.0 in Haysi and milepost 5.6 in Dickenson and Buchanan Counties, Va. (the Line). The Line traverse U.S. Postal Service Zip Codes 24256, 24627, and 24656, and includes the stations of: (1) Haysi at milepost ZH 0.0 (FSAC 50011/OPSL 24520); (2) Pittco at milepost ZH 0.2 (FSAC 50350/OPSL 24535); (3) Berta at milepost ZH 0.3 (FSAC 50012/OPSL 24525); (4) CC at milepost ZH 0.4 (FSAC 50014/OPSL 24530); and (5) Crooked Branch at milepost ZH 3.2 (FSAC 50015/OPSL 24532). CSXT states that all stations on the Line but Haysi can be closed.

CSXT has certified that: (1) No local freight traffic has moved over the Line for at least two years; (2) there is no overhead traffic on the Line; (3) no formal complaint filed by a user of rail service on the Line (or by a state or local government entity acting on behalf of such user) regarding cessation of service over the Line is pending either with the Surface Transportation Board or any U.S. District Court or has been decided in favor of a complainant within the two-year period; and (4) the requirements at 49 CFR 1105.12 (newspaper publication) and 49 CFR 1152.50(d)(1) (notice to governmental agencies) have been met.

As a condition to this exemption, any employee adversely affected by the discontinuance of service shall be protected under Oregon Short Line Railroad—Abandonment Portion Goshen Branch Between Firth & Ammon, in Bingham & Bonneville Counties, Idaho, 360 I.C.C. 91 (1979). To address whether this condition adequately protects affected employees, a petition for partial revocation under 49 U.S.C. 10502(d) must be filed.

Provided no formal expression of intent to file an offer of financial assistance (OFA) to subsidize continued rail service has been received, this exemption will become effective on November 18, 2016, unless stayed pending reconsideration. Petitions to stay that do not involve environmental issues and formal expressions of intent to file an OFA to subsidize continued rail service under 49 CFR 1152.27(c)(2) ¹ must be filed by October 28, 2016.² Petitions to reopen must be filed by November 8, 2016, with the Surface Transportation Board, 395 E Street SW., Washington, DC 20423-0001.

¹ Each OFA must be accompanied by the filing fee, which is currently set at $1,600. See 49 CFR 1002.2(f)(25).

² Because this is a discontinuance proceeding and not an abandonment, interim trail use/rail banking and public use conditions are not appropriate. Because there will be an environmental review during abandonment, this discontinuance does not require an environmental review.

A copy of any petition filed with the Board should be sent to CSXT's representative: Louis E. Gitomer, Law Offices of Louis E. Gitomer, LLC, 600 Baltimore Avenue, Suite 301, Towson, MD 21204.

If the verified notice contains false or misleading information, the exemption is void ab initio.

Board decisions and notices are available on our Web site at WWW.STB.GOV.

Decided: October 14, 2016.
By the Board, Rachel D. Campbell, Director, Office of Proceedings.
Kenyatta Clay,
Clearance Clerk.

[FR Doc. 2016-25353 Filed 10-18-16; 8:45 am]

BILLING CODE 4915-01-P